DEPARTMENT OF JUSTICE

[AAG/A Order No. 009-2004]

Privacy Act of 1974; Systems of Records

AGENCY: United States Trustee Program, Department of Justice.

ACTION: Notice of modifications to systems of records.

SUMMARY: Pursuant to the Privacy Act of 1974 (5 U.S.C. 552a) and Office of Management and Budget Circular No. A-130, the United States Trustee Program (“USTP”), Department of Justice, proposes to modify the following existing Privacy Act systems of record, which were last substantively revised on March 4, 2004, at 69 FR 10255:

JUSTICE/UST-001, Bankruptcy Case Files and Associated Records;

JUSTICE/UST-002, Bankruptcy Trustee Oversight Records;

JUSTICE/UST-003, U.S. Trustee Program Timekeeping Records; and

JUSTICE/UST-004, U.S. Trustee Program Case Referral System.

DATES: These actions will be effective July 26, 2004.

FOR FURTHER INFORMATION CONTACT: For information regarding these changes, and for general information regarding USTP's Privacy Act systems, contact Anthony J. Ciccone, FOIA/Privacy Counsel, Executive Office for United States Trustees, at (202) 307-1399.

SUPPLEMENTARY INFORMATION: Two new routine uses are being added to the following United States Trustee Program systems of records. They state that information from USTP systems may be disclosed in connection with investigations and/or meetings under 11 U.S.C. 341, so as to facilitate USTP civil and criminal enforcement efforts and compliance with the Bankruptcy Code and related authority.

In accordance with 5 U.S.C. 552a(e)(4) and (11), the public is given a 30-day period in which to comment; and the Office of Management and Budget (OMB), which has oversight responsibility of the Act, requires a 40-day period in which to conclude its review of the system. Therefore, please submit comments by July 15, 2004. The public, OMB, and Congress are invited to submit comments to: Mary Cahill, Management and Planning Staff, Justice Management Division, Department of Justice, 1331 Pennsylvania Ave., NW., Washington, DC 20530 (1400 National Place Building).

In accordance with 5 U.S.C. 552a(r), the Department has provided a report to OMB and Congress.

Dated: June 8, 2004.
Paul R. Corts,
Assistant Attorney General for Administration.

JUSTICE/UST-001

SYSTEM NAME:

Bankruptcy Case Files and Associated Records.

* * * * *

ROUTINE USES OF RECORDS MAINTAINED IN THE SYSTEM, INCLUDING CATEGORIES OF USERS AND THE PURPOSES OF SUCH USES:

* * * * *

(N) Release of Information related to Investigations and Proceedings:

Information from these records may be disclosed in the course of investigating the potential or actual violation of any law—whether civil, criminal, or regulatory in nature—or for the preparation of a trial or hearing for such violation. Such information may be disclosed to a federal, state, local, tribal, or foreign agency, or to an individual or organization, if there is reason to believe that such agency, individual, or organization possesses information relating to the investigation, trial, or hearing, and if the dissemination is reasonably necessary to elicit such information or to obtain the cooperation of a witness or an informant.

(O) Release of Information in connection with Section 341 Meetings:

Information from these records may be disclosed in connection with meetings held under 11 U.S.C. 341 and related proceedings, when the Department of Justice determines that the records are arguably relevant to such meetings or bankruptcy proceedings. Transcripts or other records of such meetings may also be disclosed upon request pursuant to relevant bankruptcy laws or rules.

JUSTICE/UST-002

SYSTEM NAME:

Bankruptcy Trustee Oversight Records

* * * * *

ROUTINE USES OF RECORDS MAINTAINED IN THE SYSTEM, INCLUDING CATEGORIES OF USERS AND THE PURPOSES OF SUCH USES:

* * * * *

(M) Release of Information related to Investigations and Proceedings:

Information from these records may be disclosed in the course of investigating the potential or actual violation of any law—whether civil, criminal, or regulatory in nature—or for the preparation of a trial or hearing for such violation. Such information may be disclosed to a federal, state, local, tribal, or foreign agency, or to an individual or organization, if there is reason to believe that such agency, individual, or organization possesses information relating to the investigation, trial, or hearing, and if the dissemination is reasonably necessary to elicit such information or to obtain the cooperation of a witness or an informant.

(N) Release of Information in connection with Section 341 Meetings:

Information from these records may be disclosed in connection with meetings held under 11 U.S.C. 341 and related proceedings, when the Department of Justice determines that the records are arguably relevant to such meetings or proceedings. Transcripts or other records of such meetings may also be disclosed upon request pursuant to relevant bankruptcy laws or rules.

JUSTICE/UST-003

1. SYSTEM NAME:

U.S. Trustee Program Timekeeping Records.

* * * * *

ROUTINE USES OF RECORDS MAINTAINED IN THE SYSTEM, INCLUDING CATEGORIES OF USERS AND THE PURPOSES OF SUCH USES:

* * * * *

(F) Release of Information related to Investigations and Proceedings:

Information from these records may be disclosed in the course of investigating the potential or actual violation of any law—whether civil, criminal, or regulatory in nature—or for the preparation of a trial or hearing for such violation. Such information may be disclosed to a federal, state, local, tribal, or foreign agency, or to an individual or organization, if there is reason to believe that such agency, individual, or organization possesses information relating to the investigation, trial, or hearing, and if the dissemination is reasonably necessary to elicit such information or to obtain the cooperation of a witness or an informant.

JUSTICE/UST-004

1. SYSTEM NAME:

U.S. Trustee Program Case Referral System.

* * * * *

ROUTINE USES OF RECORDS MAINTAINED IN THE SYSTEM, INCLUDING CATEGORIES OF USERS AND THE PURPOSES OF SUCH USES:

* * * * *

(N) Release of Information related to Investigations and Proceedings:

Information from these records may be disclosed in the course of investigating the potential or actual violation of any law—whether civil, criminal, or regulatory in nature—or for the preparation of a trial or hearing for such violation. Such information may be disclosed to a federal, state, local, tribal, or foreign agency, or to an individual or organization, if there is reason to believe that such agency, individual, or organization possesses information relating to the investigation, trial, or hearing, and if the dissemination is reasonably necessary to elicit such information or to obtain the cooperation of a witness or an informant.

(O) Release of Information in connection with Section 341 Meetings:

Information from these records may be disclosed in connection with meetings held under 11 U.S.C. 341 and related proceedings, when the Department of Justice determines that the records are arguably relevant to such meetings or proceedings. Transcripts or other records of such meetings may also be disclosed upon request pursuant to relevant bankruptcy laws or rules.

[FR Doc. 04-13450 Filed 6-14-04; 8:45 am]

BILLING CODE 4410-40-P